DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Licensing Responsibilities and Enforcement.

Form Number(s): N/A.

OMB Control Number: 0694-0122.

Type of Request: Regular.

Burden Hours: 78,576 hours.

Number of Respondents: 1,821,891 respondents.

Average Hours per Response: 5 seconds to 2 hours per response.

Needs and Uses: This information collection supports the various collections, notifications, reports, and information exchanges that are needed by the Office of Export Enforcement and Customs to enforce the Export Administration Regulations and maintain the National Security of the United States.

Affected Public: Businesses and other for-profit institutions.

Frequency: On occasion.

Respondent's Obligation: Required to obtain benefits.

This information collection request may be viewed at www.reginfo.gov. Follow the instructions to view the Department of Commerce collections currently under review by OMB.

Written comments and recommendations for the proposed information collection should be sent within 30 days of publication of this notice to OIRA. Submission@omb.eop.gov or fax to (202) 395-5806.

Dated: June 24, 2015.
Sheleen Dumas,
Departmental PRA Lead, Office of the Chief Information Officer.

[FR Doc. 2015-15940 Filed 6-29-15; 8:45 am]

BILLING CODE 3510-33-P